DEPARTMENT OF THE TREASURY

Fiscal Service

Renegotiation Board Interest Rate, Prompt Payment Interest Rate, Contract Disputes Act

AGENCY: Bureau of the Public Debt, Fiscal Service, Treasury

ACTION: Notice.

SUMMARY: For the period beginning January 1, 2004 and ending on June 30, 2004, the prompt payment interest rate is 4.000 per centum per annum.

ADDRESSES: Comments or inquiries may be mailed to Crystal Hanna, Team Leader, Borrowings Accounting Team, Office of Public Debt Accounting, Bureau of the Public Debt, Parkersburg, West Virginia, 26106-1328. A copy of this Notice will be available to download from http://www.publicdebt.treas.gov.

DATES: This notice announces the applicable interest rate for the January 1, 2004 to June 30, 2004 period.

FOR FURTHER INFORMATION CONTACT: Stephanie Brown, Manager, Division of Accounting Operations, Office of Public Debt Accounting, Bureau of the Public Debt, Parkersburg, West Virginia, 26106-1328, (304) 480-5181; Crystal Hanna, Team Leader, Borrowings Accounting Team, Office of Public Debt Accounting, Bureau of the Public Debt, (304) 480-5139, Edward C. Gronseth, Deputy Chief Counsel, Office of the Chief Counsel, Bureau of the Public Debt, (304) 480-8692; or Geraldine J. Porco-Hubenko, Attorney-Adviser, Office of the Chief Counsel, Bureau of the Public Debt, (202) 691-3708.

SUPPLEMENTARY INFORMATION: Although the Renegotiation Board is no longer in existence, other Federal agencies are required to use interest rates computed under the criteria established by the Renegotiation Act of 1971 Sec. 2, Public Law 92-41, 85 Stat. 97. For example, the Contract Disputes Act of 1978 Sec. 12, Public Law 95-563, 92 Stat. 2389 and, indirectly, the Prompt Payment Act of 1982, 31 U.S.C. 3902(a), provide for the calculation of interest due on claims at a rate established by the Secretary of the Treasury for the Renegotiation Board under Public Law 92-41.

Therefore, notice is given that the Secretary of the Treasury has determined that the rate of interest applicable, for the period beginning January 1, 2004 and ending on June 30, 2004, is 4.000 per centum per annum. This rate is determined pursuant to the above-mentioned sections for the purpose of said sections.

Dated: December 22, 2003.
Donald V. Hammond,
Fiscal Assistant Secretary.

[FR Doc. 03-31947 Filed 12-29-03; 8:45 am]

BILLING CODE 4810-39-M